DEPARTMENT OF COMMERCE

National Oceanic and Atmospheric Administration

RIN 0648-XC889

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (SAFMC) will hold a meeting of its Scientific and Statistical Committee (SSC). See SUPPLEMENTARY INFORMATION.

DATES: The SSC will meet 9 a.m.—6 p.m. on Tuesday, October 22, 2013; 9 a.m.—6 p.m. on Wednesday, October 23, 2013; and 9 a.m.—2 p.m. on Thursday, October 24, 2013.

ADDRESSES: Meeting address: The meeting will be held at the Crowne Plaza Airport Hotel, 4831 Tanger Outlet Boulevard, North Charleston, SC 29418; telephone: (800) 503-5762 or (843) 744-4422; fax: (843) 744-4472.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; telephone: (843) 571-4366 or toll free (866) SAFMC-10; fax: (843) 769-4520; email: kim.iverson@safmc.net.

SUPPLEMENTARY INFORMATION: The following items will be discussed by the SSC during this meeting:

SSC Meeting, Tuesday, October 22, 2013, 9 a.m. until Thursday, October 24, 2013, 2 p.m.

1. Address SEDAR planning items including 2014 assessments of red snapper, red porgy, and gag; future assessment priorities; and actions of the SEDAR Steering Committee.

2. Discuss methods of incorporating probabilistic results in fishing level recommendations.

3. Review projections of the Spanish mackerel assessment.

4. Receive an update on the Southeast Fishery Independent Survey (SEFIS) monitoring program.

5. Review biological sampling targets.

6. Review stock assessments of mutton snapper, blueline tilefish, and snowy grouper.

7. Receive a presentation on recent developments in data poor assessment approaches.

8. Review productivity components of the Acceptable Biological Catch (ABC) control rule.

9. Discuss Amendment 22 to the SAFMC Snapper-Grouper FMP addressing a recreational tag program.

10. Receive updates on other ongoing SAFMC amendments and management actions.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Written comment on SSC agenda topics is to be distributed to the Committee through the Council office, similar to all other briefing materials. Written comment to be considered by the SSC shall be provided to the Council office no later than one week prior to an SSC meeting. For this meeting, the deadline for submission of written comment is 12 p.m. Tuesday, October 15, 2013. Two opportunities for comment on agenda items will be provided during SSC meetings and noted on the agenda. The first will be at the beginning of the meeting, and the second near the conclusion, when the SSC reviews its recommendations.

Special Accommodations

This meeting is accessible to people with disabilities. Requests for auxiliary aids should be directed to the SAFMC office (see ADDRESSES) at least 10 business days prior to the meeting.

Note: The times and sequence specified in this agenda are subject to change.

Authority: 16 U.S.C. 1801 et seq.

Dated: September 25, 2013.
Tracey L. Thompson,
Acting Deputy Director, Office of Sustainable Fisheries, National Marine Fisheries Service.

[FR Doc. 2013-23762 Filed 9-27-13; 8:45 am]

BILLING CODE 3510-22-P